DEPARTMENT OF ENERGY

Federal Energy Regulatory Commission

[Project No. 13356-000]

Slatersville Hydro, LLC; Notice of Application Accepted for Filing and Soliciting Motions To Intervene and Protests

May 8, 2009.

Take notice that the following hydroelectric application has been filed with the Commission and is available for public inspection.

a. Type of Application: Exemption From Licensing.

b. Project No.: P-13356-000.

c. Date Filed: January 15, 2009.

d. Applicant: Slatersville Hydro, LLC.

e. Name of Project: Slatersville Hydroelectric Project.

f. Location: On the Branch River in Providence County, Rhode Island. The project would not occupy any land of the United States.

g. Filed Pursuant to: Public Utilities Regulatory Policies Act of 1978, 16 U.S.C. 2705, 2708.

h. Applicant Contact: Michael P. DeFrancesco, 87 Hall Road, Exeter, RI 02822, (401) 742-1968.

i. FERC Contact: Tom Dean, (202) 502-6041.

j. Deadline for filing motions to intervene and protests: 60 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “eFiling” link.

k. This application has been accepted for filing, but is not ready for environmental analysis at this time.

l. Description of Project: The Slatersville Project would consist of: (1) The existing 13-foot-high RI Dam No. 43 consisting of: (a) an existing 175-foot-long spillway with a spillway elevation of 250.7 feet National Geodetic Vertical Datum 1988 (NGVD); and (b) a westerly abutment equipped with two 3.5-foot-wide, 5.7-foot-high sluice gates impounding; (2) the 172-acre Upper Slatersville reservoir leading to; (3) two new 150-foot-long, 4.5-foot-diameter penstocks connecting to; (4) a new powerhouse containing two generating units with a total installed capacity of 360 kilowatts; (5) a new 25-foot-long tailrace discharging water into the Lower Slatersville reservoir; (6) a new 0.5-mile-long, 13.8-kilovolt transmission line; and (7) appurtenant facilities. The project would have an average annual generation of about 1,250 megawatt-hours.

In addition to the new project facilities described above, the project would include reinstalling 1.5- or 2.0-foot-high flashboards on top of RI Dam No. 43.

Project facilities may also include: (1) The existing 6-foot-high RI Dam No. 45 with a 105-foot-long spillway; and (2) the existing 0.3-acre reservoir with a normal water surface elevation of 231.9 feet NGVD located in the bypassed reach between RI Dam No. 43 and the new tailrace.

m. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must: (1) Bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Procedural schedule and final amendments: The application will be processed according to the following Hydro Licensing Schedule. Revisions to the schedule will be made as appropriate. The Commission staff proposes to issue one environmental assessment rather than issue a draft and final EA. Comments, terms and conditions, recommendations, prescriptions, and reply comments, if any, will be addressed in an EA. Staff intents to give at least 30 days for entities to comment on the EA, and will take into consideration all comments received on the EA before final action is taken on the license application.

Issue Scoping Document | June 2009.
Notice of application is ready for environmental analysis | August 2009.
Notice of the availability of the EA | January 2010.

Final amendments to the application must be filed with the Commission no later than 30 days from the issuance date of the notice of ready for environmental analysis.

Kimberly D. Bose,
Secretary.

[FR Doc. E9-11342 Filed 5-14-09; 8:45 am]

BILLING CODE 6717-01-P